ENVIRONMENTAL PROTECTION AGENCY

[EPA-HQ-AO-2021-0683; FRL-9121-01-OA]

White House Environmental Justice Advisory Council; Notification of Virtual Public Meeting

AGENCY: Environmental Protection Agency (EPA).

ACTION: Notification for a public meeting.

SUMMARY: Pursuant to the Federal Advisory Committee Act (FACA), the U.S. Environmental Protection Agency (EPA) hereby provides notice that the White House Environmental Justice Advisory Council (WHEJAC) will meet on the dates and times described below. EPA is announcing a two (2) day meeting on November 17 and 18, 2021. The meeting is open to the public. Members of the public are encouraged to provide comments relevant to the specific issues being considered by the WHEJAC. For additional information about registering to attend the meetings or to provide public comment, please see “Registration” under SUPPLEMENTARY INFORMATION. Pre-registration is required.

DATES: The WHEJAC will hold a virtual public meeting on Wednesday, November 17, 2021, and Thursday, November 18, 2021, from approximately 3:00 p.m.-7:30 p.m., Eastern Time each day. A public comment period relevant to the specific issues will be considered by the WHEJAC on Thursday, November 17, 2021. (see SUPPLEMENTARY INFORMATION). Members of the public who wish to participate during the public comment period must pre-register by 11:59 p.m., Eastern Time, one (1) week prior to the meeting date.

FOR FURTHER INFORMATION CONTACT: Karen L. Martin, WHEJAC Designated Federal Officer, U.S. EPA; email: whejac@epa.gov; telephone: (202) 564-0203. Additional information about the WHEJAC is available at https://www.epa.gov/environmentaljustice/white-house-environmental-justice-advisory-council.

SUPPLEMENTARY INFORMATION: The meeting discussion will focus on several topics including, but not limited to the discussion and deliberation of draft recommendations to the Chair of the Council on Environmental Quality and the White House Interagency Council on Environmental Justice from the Justice40 Work Group, Climate and Economic Justice Screening Tool Work Group, and the Scorecard Work Group.

The Charter of the WHEJAC states that the advisory committee will provide independent advice and recommendations to the Chair of the Council on Environmental Quality (CEQ) and to the White House Interagency Council on Environmental Justice (IAC). The WHEJAC will provide advice and recommendations about broad cross-cutting issues, related but not limited to, issues of environmental justice and pollution reduction, energy, climate change mitigation and resiliency, environmental health, and racial inequity. The WHEJAC's efforts will include a broad range of strategic, scientific, technological, regulatory, community engagement, and economic issues related to environmental justice.

Registration: Individual registration is required for the virtual public meeting. Information on how to register is located at https://www.epa.gov/environmentaljustice/white-house-environmental-justice-advisory-council. Registration for the meeting is available through the scheduled end time of the meeting. Registration to speak during the public comment period will close 11:59 p.m., Eastern Time, one (1) week prior to meeting date. When registering, please provide your name, organization, city and state, and email address for follow up. Please also indicate whether you would like to provide public comment during the meeting, and whether you are submitting written comments at the time of registration.

A. Public Comment

Every effort will be made to hear from as many registered public commenters during the time specified on the agenda. Individuals or groups making remarks during the public comment period will be limited to three (3) minutes. To accommodate the number of people who want to address the WHEJAC during the time allotted on the agenda, only one representative of a particular community, organization, or group will be allowed to speak. Submission of written comments for the record are strongly encouraged. The suggested format for individuals providing public comments is as follows: Name of speaker; name of organization/community; city and state; brief description of the concern, and what you want the WHEJAC to advise CEQ or IAC to do. Written comments received by the registration deadline, will be included in the materials distributed to the WHEJAC prior to the meeting. Written comments received after that time will be provided to the WHEJAC as time allows. Written comments can be submitted up to two (2) weeks after the meeting date. Submit your comments to Docket ID No. EPA-HQ-AO-2021-0683 or by one of the following methods:

• www.regulations.gov: Follow the online instructions for submitting comments.

• Email: Send comments by electronic mail (email) to wheja@epa.gov, Attention Docket ID No. EPA-HQ-AO-2021-0683.

• Webform: Use the webform at https://www.epa.gov/environmentaljustice/white-house-environmental-justice-advisory-council#whejacmeeting and email any additional materials to whejac@epa.gov.

All comments received, including any personal information provided, will be included in the public docket without change and may be made available online at www.regulations.gov. Information claimed to be Confidential Business Information (CBI) or other information whose disclosure is restricted by statute will not be included in the public docket and should not be submitted through www.regulations.gov email, or webform. For additional information about the EPA's public docket visit the EPA Docket Center homepage at http://www.epa.gov/dockets/. Publicly available docket materials may be accessed online at www.regulations.gov.

B. Information About Services for Individuals With Disabilities or Requiring English Language Translation Assistance

For information about access or services for individuals requiring assistance, please contact Karen L. Martin, via email at whejac@epa.gov. To request special accommodations for a disability or other assistance, please submit your request at least seven (7) working days prior to the meeting, to give EPA sufficient time to process your request. All requests should be sent to the email listed in the FOR FURTHER INFORMATION CONTACT section.

Matthew Tejada,
Director for the Office of Environmental Justice.

[FR Doc. 2021-22599 Filed 10-15-21; 8:45 am]

BILLING CODE 6560-50-P